DEPARTMENT OF COMMERCE

Patent and Trademark Office

[Docket No. PTO-T-2012-0029]

Notice of Inquiry Regarding Adjustment of Fees for Trademark Applications

AGENCY: United States Patent and Trademark Office, Commerce.

ACTION: Notice of inquiry.

SUMMARY: The United States Patent and Trademark Office (“USPTO” or “Office”) is considering adjusting trademark application filing fees so as to promote efficiency for the USPTO and customers by incentivizing complete electronic communication. The USPTO invites the public to submit comments regarding such possible adjustments.

DATES: Written comments must be received on or before October 15, 2012.

ADDRESSES: The USPTO prefers that comments be submitted via electronic mail message to TMFRNotices@uspto.gov. Written comments may also be submitted by mail to Commissioner for Trademarks, P.O. Box 1451, Alexandria, VA 22313-1451, attention Cynthia C. Lynch; by hand delivery to the Trademark Assistance Center, Concourse Level, James Madison Building-East Wing, 600 Dulany Street, Alexandria, Virginia, attention Cynthia C. Lynch; or by electronic mail message via the Federal eRulemaking Portal. See the Federal eRulemaking Portal Web site (http://www.regulations.gov) for additional instructions on providing comments via the Federal eRulemaking Portal. All comments submitted directly to the Office or provided on the Federal eRulemaking Portal should include the docket number (PTO-T-2012-0029). The comments will be available for public inspection on the USPTO's Web site at http://www.uspto.gov, and will also be available at the Office of the Commissioner for Trademarks, Madison East, Tenth Floor, 600 Dulany Street, Alexandria, Virginia. Because comments will be made available for public inspection, information that is not desired to be made public, such as an address or phone number, should not be included.

FOR FURTHER INFORMATION CONTACT: Cynthia C. Lynch, Office of the Deputy Commissioner for Trademark Examination Policy, at (571) 272-8742.

SUPPLEMENTARY INFORMATION: The USPTO is providing the public, including user groups, with an opportunity to comment on possible adjustments to trademark application fees. In particular, the USPTO is considering adjusting filing fees to incentivize complete electronic communications by reducing the TEAS Plus filing fee and by providing a discount on applications filed using the regular TEAS application form, if the applicant authorizes email communication and agrees to file all responses and other documents electronically during the prosecution of the application. The USPTO is also contemplating increasing the fee for paper applications to more accurately reflect the higher cost of processing such filings.

Please consider responding to the following questions in your comments:

1. Fees for filing an application for registration of a trademark are currently set at:

$375 per class for filing by a paper application;

$325 per class for filing electronically using TEAS;

$275 per class for filing electronically using TEAS Plus (additional requirements apply, including authorizing email communication from the USPTO, agreeing to file all subsequent documents electronically, and selecting goods/services from a pre-approved entry in the U.S. Acceptable Identification of Goods and Services Manual).

Given the objective to increase end-to-end electronic processing of trademark applications, the significantly higher cost of processing paper applications, and the ability of the USPTO to offer some fee reductions, what fee amounts would you consider reasonable for the three existing methods of filing?

2. How much of a discount do you consider appropriate for the proposed TEAS application fee discount if the applicant authorizes email communication and agrees to file all responses and other documents electronically during the prosecution of the application?

3. If you generally file trademark applications using TEAS, but not TEAS Plus, how much of a proposed discount would motivate you to authorize email communication and agree to file all responses and other documents electronically during the prosecution of a trademark application?

4. If the TEAS Plus fee were reduced and remained the lowest fee, and the discount TEAS option were also offered, what would be the impact on the TEAS Plus filing level—i.e. would you be more likely to choose TEAS Plus as the lowest fee, or to select the discount TEAS option with its less burdensome requirements?

5. The cost of processing paper filed applications is substantially higher than electronically filed applications. If you generally file paper trademark applications, would you continue to do so even if the paper application fee were to increase, and why?

6. What advantages and disadvantages do you see in a fee structure that includes the TEAS application fee discount and a significantly higher fee for paper-filed applications?

While the USPTO welcomes and values all comments from the public in response to this notice, these comments do not bind the USPTO to any further actions related to the comments. Persons submitting written comments should note that the USPTO will not provide “comment and response” analysis, since notice and opportunity for public comment are not required for this notice under 5 U.S.C. 553(b) or any other law.

Once the USPTO receives comments, the USPTO will decide whether to propose a change in the fees. If the USPTO decides to propose a fee change, the Office will provide an opportunity for public comment in a Notice of Proposed Rulemaking. The USPTO would intend to use the procedures set forth in Section 10 of the Leahy-Smith America Invents Act (“AIA”) for these possible fee changes. Leahy-Smith America Invents Act, Public Law 112-29, § 10, 125 Stat. 284, 316-17 (2011). Those Section 10 procedures include: providing any proposed fee to the Trademark Public Advisory Committee (“TPAC”) prior to issuing a Notice of Proposed Rulemaking; providing at least 30 days for TPAC to deliberate, consider, and comment on such proposal; holding a public hearing relating to such proposal; and making available a written report from TPAC setting forth their comments, advice, and recommendations, which the USPTO shall consider before setting or adjusting fees. See AIA § 10(d).

Dated: August 10, 2012.
David J. Kappos,
Under Secretary of Commerce for Intellectual Property and Director of the United States Patent and Trademark Office.

[FR Doc. 2012-20127 Filed 8-15-12; 8:45 am]

BILLING CODE 3510-16-P